DEPARTMENT OF ENERGY

Federal Energy Regulatory Commission

18 CFR Part 35

[Docket No. RM16-3-000]

Ownership Information in Market-Based Rate Filings; Withdrawal

AGENCY: Federal Energy Regulatory Commission, Department of Energy.

ACTION: Withdrawal of notice of proposed rulemaking and termination of rulemaking proceeding.

SUMMARY: The Federal Energy Regulatory Commission (Commission) is withdrawing its proposal to amend its regulations to clarify the scope of ownership information that sellers seeking to obtain or retain market-based rate authority must provide. The Commission is also concurrently issuing a Notice of Proposed Rulemaking in Docket No. RM16-17-000, which supersedes this proposal.

DATES: The notice of proposed rulemaking published on December 24, 2015, at 80 FR 80302, is withdrawn as of July 28, 2016.

FOR FURTHER INFORMATION CONTACT:

Ashley Dougherty (Technical Information), Office of Energy Market Regulation, Federal Energy Regulatory Commission, 888 First Street NE., Washington, DC 20426, (202) 502-8851, ashley.dougherty@ferc.gov.

Laura Chipkin (Legal Information), Office of General Counsel, Federal Energy Regulatory Commission, 888 First Street NE., Washington, DC 20426, (202) 502-8615, laura.chipkin@ferc.gov.

SUPPLEMENTARY INFORMATION:

1. On December 17, 2015, the Commission issued a Notice of Proposed Rulemaking (NOPR) in this proceeding.¹ For the reasons set forth below, we are exercising our discretion to withdraw the NOPR and terminate this rulemaking proceeding.

¹ Ownership Information in Market-Based Rate Filings, FERC Stats & Regs. ¶ 32,713 (2015).

2. In the NOPR, the Commission proposed to amend its regulations to clarify the scope of ownership information that sellers seeking to obtain or retain market-based rate authority must provide. The Commission has since developed a new proposal, as reflected in a concurrently issued NOPR (Data Collection NOPR),² to streamline and consolidate the collection of market-based rate (MBR) information with new information proposed to be collected for analytics and surveillance purposes. Among other things, in the Data Collection NOPR, the Commission proposes to change certain aspects of the substance and format of information submitted for MBR purposes, thereby superseding the proposed clarifications in the instant NOPR.

² Data Collection for Analytics and Surveillance and Market-Based Rate Purposes, 156 FERC ¶ 61,045 (2016).

3. The Commission therefore withdraws the NOPR and terminates this rulemaking proceeding.

By the Commission.
Issued: July 21, 2016.
Kimberly D. Bose,
Secretary.

[FR Doc. 2016-17856 Filed 7-27-16; 8:45 am]

BILLING CODE 6717-01-P